DEPARTMENT OF HEALTH AND HUMAN SERVICES

Administration for Children and Families

Privacy Act of 1974, as Amended by Public Law 100-503; Notice of a Computer Matching Program

AGENCY: Office of Financial Services (OFS), Office of Administration (OA), ACF, HHS.

ACTION: Request for public comment on the Public Assistance Reporting Information System (PARIS) notice of a computer matching program between the Department of Veterans Affairs and State Public Assistance Agencies (SPAAs).

C.F.D.A. Number: 93.647

Statutory Authority: Privacy Act of 1974, as amended by Public Law 100-503.

SUMMARY: In compliance with the Privacy Act of 1974, as amended by Public Law 100-503, the Computer Matching and Privacy Protection Act of 1988, ACF is publishing a notice of a computer matching program. The purpose of this computer match is to identify specific individuals who receive benefits from the Department of Veterans Affairs (VA) and also receive payments pursuant to various benefit programs administered by both the Department of Health and Human Services (HHS) and the Department of Agriculture. ACF will facilitate this program on behalf of SPAAs that participate in PARIS for verification of continued eligibility for public assistance. The match will utilize VA and SPAA records.

DATES: Submit written comments on or before May 14, 2012

ACF will file a report of the subject matching program with the Committee on Homeland Security and Governmental Affairs of the Senate and the Committee on Oversight and Government Reform of the House of Representatives and the Office of Information and Regulatory Affairs within the Office of Management and Budget (OMB). The dates for the matching program will be effective as indicated in “E. Inclusive Dates of the Matching Program” in this notice.

ADDRESSES: Interested parties may comment on this notice by writing to the Director, Office of Financial Services, Office of Administration, 370 L'Enfant Promenade SW., Washington, DC 20047. All comments received will be available for public inspection at this address.

FOR FURTHER INFORMATION CONTACT: Director, Office of Financial Services, Office of Administration, 370 L'Enfant Promenade SW., Washington, DC 20047. Telephone: (202) 401-7237.

SUPPLEMENTARY INFORMATION: The Privacy Act of 1974, as amended by Public Law 100-503, the Computer Matching and Privacy Protection Act of 1988, (5 U.S.C. 552a), adds certain protections for individuals applying for and receiving Federal benefits. The law regulates the use of computer matching by Federal agencies when records in a system of records are matched with other Federal, State, and local government records.

Federal agencies that provide or receive records in computer matching programs must:

1. Negotiate written agreements with source agencies;

2. Provide notification to applicants and beneficiaries that their records are subject to matching;

3. Verify match findings before reducing, suspending, or terminating an individual's benefits or payments;

4. Furnish detailed reports to Congress and OMB; and

5. Establish a Data Integrity Board that must approve matching agreements.

This computer matching program meets the requirements of Public Law 100-503.

Jason Donaldson,
Deputy Assistant Secretary for Administration, ACF.

Notice of Computer Matching Program

A. Participating Agencies

VA and SPAAs.

B. Purpose of the Match

To identify specific individuals who receive benefits from the VA and also receive payments pursuant to HHS and Department of Agriculture benefit programs, and to verify their continued eligibility for such benefits. SPAAs will contact affected individuals and seek to verify the information resulting from the match before initiating any adverse actions based on the match results.

C. Authority for Conducting the Match

The authority for conducting the matching program is contained in section 402(a)(6) of the Social Security Act [42 U.S.C. 602(a)(6)].

D. Records To Be Matched

VA will disclose information from the system of records identified as Compensation, Pension, Education, and Vocational Rehabilitation and Employment Records—VA (58VA21/22/28) published at 74 FR 29275, (June 19, 2009), last amended at 75 FR 22187, (April 27, 2010). VA's disclosure of information for use in this computer match is listed as a routine use in this system of records.

VA, as the source agency, will prepare electronic files containing the names and other personal identifying data of eligible veterans receiving benefits. These records are matched electronically against SPAA files consisting of data regarding monthly Medicaid, Temporary Assistance for Needy Families, general assistance, and Supplemental Nutrition Assistance Program beneficiaries.

1. The electronic files provided by the SPAAs will contain client names and Social Security numbers (SSNs).

2. The resulting output returned to SPAAs will contain personal identifiers, including names, SSNs, employers, current work or home addresses, etc.

E. Inclusive Dates of the Matching Program

The effective date of the matching agreement and date when matching may actually begin shall be at the expiration of the 40-day review period for OMB and Congress, or 30 days after publication of the matching notice in the Federal Register, whichever date is later. The matching program will be in effect for 18 months from the effective date, with an option to renew for 12 additional months, unless one of the parties to the agreement advises the others by written request to terminate or modify the agreement.

[FR Doc. 2012-8901 Filed 4-12-12; 8:45 am]

BILLING CODE 4184-01-P